FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
004580F | Express Lanes International, Inc., 401 Broadway, New York, NY 10013 | December 9, 2004.
004505NF | Freight Masters Systems, International, Inc., 3760 Guion Road, Indianapolis, IN 46222 | December 16, 2004.
017572F | Impex of Doral Logistics, Inc., 7850 NW. 80th Street, Unit 3, Medley, FL 33166-2170 | December 16, 2004.

Dated: February 25, 2005.
Peter J. King,
Deputy Director, Bureau of Certification and Licensing.

[FR Doc. 05-4024 Filed 3-1-05; 8:45 am]

BILLING CODE 6730-01-P